DEPARTMENT OF DEFENSE

Office of the Secretary

[Docket ID: DoD-2014-OS-0092]

Privacy Act of 1974; System of Records

AGENCY: Office of the Secretary of Defense, DoD.

ACTION: Notice to alter a System of Records.

SUMMARY: The Office of the Secretary of Defense proposes to alter a system of records, DWHS E05, entitled “Mandatory Declassification Review Files”, in its inventory of record systems subject to the Privacy Act of 1974, as amended. This system is used to process requests and/or appeals from individuals for the mandatory review of classified documents for the purposes of releasing declassified material to the public; and to provide a research resource of historical data on release of records to ensure consistency in subsequent actions. Data developed from this system is used for the annual report required by the applicable Executive Order(s) governing classified National Security Information. This data also serves management needs, by providing information about the number of requests; the type or category of records required; and the average processing time.

DATES: Comments will be accepted on or before December 1, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense .gov/.

The proposed system report, as required by U.S.C. 552a(r) of the Privacy Act of 1974, as amended, was submitted on June 9, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 27, 2014.
Aaron Siegel,
Alternate OSD Federal Register Liaison Officer, Department of Defense.

DWHS E05

System name:

Mandatory Declassification Review Files (October 28, 2011, 76 FR 66916).

Changes:

* * * * *

System location:

Delete entry and replace with “Records and Declassification Division, Executive Services Directorate, 6564 Loisdale Court, Springfield, VA 22150-1827.”

Categories of individuals covered by the system:

Delete entry and replace with “Individuals requesting Mandatory Declassification Review (MDR) or appealing a MDR determination for access to records and information within the scope of the Offices of the Secretary of Defense (OSD).”

Categories of records in the system:

Delete entry and replace with “Requester's name, address, level of security clearance, source (organization of requester), source case number (if applicable), classification, received date, page numbers, OSD MDR case number and subject of the request.”

Authority for maintenance of the system:

Delete entry and replace with “E.O. 13526, Classified National Security Information; 32 CFR 2001.33, Mandatory Review for Declassification; and DoD Instruction 5200.01, DoD Information Security Program and Protection of Sensitive Compartmented Information.”

Purpose(s):

Delete entry and replace with “To process requests and/or appeals from individuals for the mandatory review of classified documents for the purposes of releasing declassified material to the public; and to provide a research resource of historical data on release of records to ensure consistency in subsequent actions. Data developed from this system is used for the annual report required by the applicable Executive Order(s) governing classified National Security Information. This data also serves management needs, by providing information about the number of requests; the type or category of records required; and the average processing time.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

To the National Archives and Records Administration, Interagency Security Classification Appeals Panel (ISCAP) for the purpose of complying with Executive Order 13526, to review administrative agency policies, procedures and to facilitate ISCAP offering of mediation services to resolve disputes between persons making Mandatory Declassification Review requests and administrative agencies.

The DoD Blanket Routine Uses set forth at the beginning of the OSD's compilation of systems of records notices may apply to this system.”

* * * * *

Retrievability:

Delete entry and replace with “Retrieved by name of requester and other pertinent information, such as organization or address, subject material describing the MDR item (including date), OSD MDR case number using computer indices, referring agency, or any combination of fields.”

Safeguards:

Delete entry and replace with “All classified material is stored in a Defense Security Service approved closed area which has a spin dial combination-lock, and requires badge and pin access. Paper records are maintained in security containers with access limited to officials having a need-to-know based on their assigned duties. All records are protected in accordance with the National Industrial Security Program Operating Manual and only accessed by individuals that have a need-to-know based on their clearance and assigned duties.”

Retention and disposal:

Delete entry and replace with “Case files documenting requests for declassification are destroyed 10 years after resolution of request.”

System manager(s) and address:

Delete entry and replace with “Chief, Records and Declassification Division, Executive Services Directorate, 4800 Mark Center Drive, Alexandria, VA 20350-3200.”

Notification procedure:

Delete entry and replace with “Individuals seeking to determine whether information about themselves is contained in this system of records should address written inquiries to Chief, Records and Declassification Division, Executive Services Directorate, 4800 Mark Center Drive, Alexandria, VA 20350-3200.

Written requests should include the individual's name and address of the individual at the time the record would have been created.”

Record access procedures:

Delete entry and replace with “Individuals seeking access to information about themselves contained in this system of records should address written inquiries to the Office of the Secretary of Defense/Joint Staff, Freedom of Information Act Requester Service Center, Office of Freedom of Information, 1155 Defense Pentagon, Washington, DC 20301-1155.

Signed, written requests should include the name and number of this system of records notice along with the individual's name and address of the individual at the time the record would have been created.”

* * * * *

Record source categories:

Delete entry and replace with “Individual.”

Exemptions claimed for the system:

Delete entry and replace with “Information classified under E.O. 12958, as implemented by DoD 5200.1-R, may be exempt pursuant to 5 U.S.C. 552a(k)(1).

An exemption rule for this system has been promulgated in accordance with requirements of 5 U.S.C. 552(d), and published in 32 CFR part 311.8. For additional information contact the system manager.”

[FR Doc. 2014-25820 Filed 10-29-14; 8:45 am]

BILLING CODE 5001-06-P